Title 3—

The President

Proclamation 7763 of March 19, 2004

National Poison Prevention Week, 2004

By the President of the United States of America

A Proclamation

Each year, approximately 1 million calls to poison control centers are made because children may have ingested harmful substances. The National Poison Prevention Week Council organizes activities annually to raise awareness of the danger of unintentional poisoning and to educate adults about how to avoid and handle these emergencies.

Since the first National Poison Prevention Week in 1962, our Nation has taken important steps to protect children from consuming inappropriate medicines or household chemicals by heightening awareness, supporting poison control centers, and improving packaging. In December, I signed the Poison Control Center Enhancement and Awareness Act Amendments of 2003 to provide assistance for poison prevention programs and to stabilize the funding of regional poison control centers. This measure supports those who are working to reduce poisonings in America and to improve the safety and health of all Americans.

The Consumer Product Safety Commission requires child-resistant packaging for certain toxic medicines and chemicals. Because packaging is never completely child-proof, adults should also lock medicines and chemicals out of the reach of children.

To encourage Americans to learn more about the dangers of accidental poisonings and to take appropriate preventive measures, the Congress, by joint resolution approved September 26, 1961, as amended (75 Stat. 681), has authorized and requested the President to issue a proclamation designating the third week of March each year as “National Poison Prevention Week.”

NOW, THEREFORE, I, GEORGE W. BUSH, President of the United States of America, do hereby proclaim March 21 through March 27, 2004, as National Poison Prevention Week. I call upon all Americans to observe this week by participating in appropriate activities and by learning how to prevent poisonings among children.

IN WITNESS WHEREOF, I have hereunto set my hand this nineteenth day of March, in the year of our Lord two thousand four, and of the Independence of the United States of America the two hundred and twenty-eighth.

B

[FR Doc. 04-6687

Filed 3-22-04; 11:00 am]

Billing code 3195-01-P